DEPARTMENT OF LABOR

Occupational Safety and Health Administration

[Docket No. OSHA-2010-0046]

QPS Evaluation Services, Inc.: Application for Expansion of Recognition

AGENCY: Occupational Safety and Health Administration (OSHA), Labor.

ACTION: Notice.

SUMMARY: In this notice, OSHA announces the application of QPS Evaluation Services, Inc., for expansion of recognition as a Nationally Recognized Testing Laboratory (NRTL) and presents the agency's preliminary finding to grant the application.

DATES: Submit comments, information, and documents in response to this notice, or requests for an extension of time to make a submission, on or before August 31, 2021.

ADDRESSES: Submit comments by any of the following methods:

Electronically: You may submit comments and attachments electronically at: https://www.regulations.gov, which is the Federal eRulemaking Portal. Follow the instructions online for submitting comments.

Docket: To read or download comments or other material in the docket, go to http://www.regulations.gov. Documents in the docket are listed in the http://www.regulations.gov index; however, some information (e.g., copyrighted material) is not publicly available to read or download through the website. All submissions, including copyrighted material, are available for inspection through the OSHA Docket Office. Contact the OSHA Docket Office at (202) 693-2350 (TTY (877) 889-5627) for assistance in locating docket submissions.

Instructions: All submissions must include the agency name and the OSHA docket number for this Federal Register notice (OSHA-2017-0014). OSHA will place comments and requests to speak, including personal information, in the public docket, which may be available online. Therefore, OSHA cautions interested parties about submitting personal information such as Social Security numbers and birthdates. For further information on submitting comments, see the “Public Participation” heading in the section of this notice titled SUPPLEMENTARY INFORMATION.

Extension of comment period: Submit requests for an extension of the comment period on or before August 31, 2021 to the Office of Technical Programs and Coordination Activities, Directorate of Technical Support and Emergency Management, Occupational Safety and Health Administration, U.S. Department of Labor, 200 Constitution Avenue NW, Room N-3655, Washington, DC 20210, or by fax to (202) 693-1644.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, telephone: (202) 693-2110 or email: robinson.kevin@dol.gov.

SUPPLEMENTARY INFORMATION:

I. Notice of the Application for Expansion

The Occupational Safety and Health Administration is providing notice that QPS Evaluation Services, Inc., (QPS) is applying for expansion of its current recognition as a NRTL. QPS requests the addition of eleven test standards to its NRTL scope of recognition.

OSHA recognition of a NRTL signifies that the organization meets the requirements specified in 29 CFR 1910.7. Recognition is an acknowledgment that the organization can perform independent safety testing and certification of the specific products covered within its scope of recognition. Each NRTL's scope of recognition includes (1) the type of products the NRTL may test, with each type specified by its applicable test standard; and (2) the recognized site(s) that has/have the technical capability to perform the product-testing and product-certification activities for test standards within the NRTL's scope. Recognition is not a delegation or grant of government authority; however, recognition enables employers to use products approved by the NRTL to meet OSHA standards that require product testing and certification.

The agency processes an application by a NRTL for initial recognition and for an expansion or renewal of this recognition, following requirements in Appendix A to 29 CFR 1910.7. This appendix requires that the agency publish two notices in the Federal Register in processing an application. In the first notice, OSHA announces the application and provides its preliminary finding. In the second notice, the agency provides its final decision on the application. These notices set forth the NRTL's scope of recognition or modifications of that scope. OSHA maintains an informational web page for each NRTL, including QPS, which details the NRTL's scope of recognition. These pages are available from the OSHA website at: https://www.osha.gov/dts/otpca/nrtl/qps.html.

QPS currently has one facility (site) recognized by OSHA for product testing and certification, with its headquarters located at: QPS Evaluation Services, Inc., 81 Kelfield Street, Unit 8, Toronto, Ontario M9W 5A3 Canada. The scope of QPS NRTL recognition is available at https://www.osha.gov/dts/otpca/nrtl/qps.html.

II. General Background on the Application

QPS submitted an application dated January 30, 2020 (OSHA-2010-0046-0013), to expand its recognition to include eleven additional test standards. OSHA staff performed a detailed analysis of the application packet and other pertinent information. OSHA did not perform any on-site reviews in relation to this application.

Table 1, below, lists the appropriate test standards found in QPS's application for expansion for testing and certification of products under the NRTL Program.

Table 1—Proposed List of Appropriate Test Standards for Inclusion in QPS's NRTL Scope of Recognition
Test standard | Test standard title
UL60079-0 | Explosive Atmospheres—Part 0: Equipment—General Requirements.
UL60079-1 | Explosive Atmospheres—Part 1: Equipment Protection by Flameproof Enclosures “d”.
UL60079-2 | Explosive atmospheres—Part 2: Equipment protection by pressurized enclosure ‘p’.
UL60079-7 | Explosive Atmospheres—Part 7: Equipment Protection by Increased Safety ”e”.
UL60079-11 | Explosive Atmospheres—Part 11: Equipment Protection by Intrinsic Safety ‘i’.
UL60079-15 | Explosive atmospheres—Part 15: Equipment protection by type of protection ‘n’.
UL60079-18 | Explosive Atmospheres—Part 18: Equipment Protection by Encapsulation ‘m’.
UL60079-25 | Explosive Atmospheres—Part 25: Intrinsically Safe Electrical Systems.
UL60079-26 | Explosive Atmospheres—Part 26: Equipment for Use in Class I, Zone 0 Hazardous (Classified) Locations.
UL60079-28 | Standard for Explosive Atmospheres—Part 28: Protection of Equipment and Transmission Systems Using Optical Radiation.
UL60079-31 | Explosive Atmospheres—Part 31: Equipment Dust Ignition Protection by Enclosure “t”.

III. Preliminary Findings on the Application

QPS submitted an acceptable application for expansion of its scope of recognition. OSHA's review of the application file and related material indicates preliminarily that QPS can meet the requirements prescribed by 29 CFR 1910.7 for expanding its recognition to include the addition of these eleven test standards for NRTL testing and certification listed above. This preliminary finding does not constitute an interim or temporary approval of QPS's application.

OSHA welcomes public comment as to whether QPS meets the requirements of 29 CFR 1910.7 for expansion of its recognition as a NRTL. Comments should consist of pertinent written documents and exhibits. Commenters needing more time to comment must submit a request in writing, stating the reasons for the request by the due date for comments. OSHA will limit any extension to 10 days unless the requester justifies a longer time period. OSHA may deny a request for an extension if it is not adequately justified. To obtain or review copies of the exhibits identified in this notice, as well as comments submitted to the docket, contact the Docket Office, Occupational Safety and Health Administration, U.S. Department of Labor, listed in ADDRESSES. These materials also are available online at https://www.regulations.gov under Docket No. OSHA-2010-0046.

OSHA staff will review all comments to the docket submitted in a timely manner and, after addressing the issues raised by these comments, make a recommendation to the Assistant Secretary for Occupational Safety and Health on whether to grant QPS's application for expansion of its scope of recognition. The Assistant Secretary will make the final decision on granting the application. In making this decision, the Assistant Secretary may undertake other proceedings prescribed in Appendix A to 29 CFR 1910.7.

OSHA will publish a public notice of this final decision in the Federal Register.

Authority and Signature

James S. Frederick, Acting Assistant Secretary of Labor for Occupational Safety and Health, authorized the preparation of this notice. Accordingly, the agency is issuing this notice pursuant to 29 U.S.C. 657(g)(2), Secretary of Labor's Order No. 8-2020 (85 FR 58393, September 18, 2020) and 29 CFR 1910.7.

Signed at Washington, DC, on August 6, 2021.
James S. Frederick,
Acting Assistant Secretary of Labor for Occupational Safety and Health.

[FR Doc. 2021-17435 Filed 8-13-21; 8:45 am]

BILLING CODE 4510-26-P